DEPARTMENT OF THE INTERIOR

National Park Service

[NPS-WASO-NRNHL-DTS#-25799; PPWOCRADI0, PCU00RP14.R50000]

National Register of Historic Places; Notification of Pending Nominations and Related Actions

AGENCY: National Park Service, Interior.

ACTION: Notice.

SUMMARY: The National Park Service is soliciting comments on the significance of properties nominated before June 9, 2018, for listing or related actions in the National Register of Historic Places.

DATES: Comments should be submitted by July 24, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 9, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

San Gabriel Mission Playhouse, 320 S Mission Dr., San Gabriel, SG100002674

San Bernardino County

Cucamonga Service Station (U.S. Highway 66 in California MPS), 9670 Foothill Blvd., Rancho Cucamonga, MP100002675

San Diego County

PCF 816 (patrol craft fast), 1492 N Harbor Dr., San Diego, SG100002676

Ventura County

Saticony Southern Pacific Railroad Depot, 11220 Azahar St., Saticony, SG100002678

COLORADO

Lincoln County

Rock Island Snow Plow No. 95580, 899 1st St., Limon, SG100002680

IDAHO

Nez Perce County

Lewiston Historic District (Boundary Increase), Roughly bounded by Beachey, Capital, D, 9th, 10th, F, 5th & 6th Sts., Lewiston, BC100002681

IOWA

Mahaska County

Vermeer, Gary J. and Matilda, Farmstead, 1688 250th Ave., Pella, SG100002682

MARYLAND

Prince George's County

New Town Center, 6505 & 6525 Belcrest Rd., 3700 East-West Hwy., Hyattsville, SG100002683

MICHIGAN

Eaton County

Charlotte Central Historic District, Cochran Ave. & adjacent streets W McClure to S of Henry St., Charlotte, SG100002684

Oakland County

Apple Island Historic Archaeological Site, Approx. 1/2 mi. form 4549 Commerce Rd., Orchard Lake Village, SG100002685

MISSOURI

Cole County

Woodland—Old City Cemetery, 1022 & 1000 E McCarty St., Jefferson City, SG100002688

Grundy County

Wolz, George, House, 605 W Crowder Rd., Trenton, SG100002690

MONTANA

Glacier County

MORNING EAGLE (carvel-planked wooden vessel), (Glacier National Park MPS, AD), Josephine L., Glacier NP, Babb, MP100002691

Jefferson County

Jefferson Canyon Highway Historic District, Milepost .5 to 12.3 MT 2, Cardwell vicinity, SG100002692

NORTH DAKOTA

Mountrail County

Assyrian Muslim Cemetery, 1/4 mi. S of US 2 on 87th Ave. NW, Ross vicinity, SG100002693

PUERTO RICO

San Juan Municipality

Casa Vigil, 1018 Calle Ferrocarril, Rio Piedras vicinity, SG100002694

Residencia de Senoritas Universidad de Puerto Rico; Rio Piedras, Address Restricted, San Juan vicinity, SG100002695

TEXAS

Bexar County

Ball, Joseph, Jr. and Salome, Homestead (Farms and Ranches of Bexar County, Texas), Address Restricted, Lytle vicinity, MP100002696

Comal County

Anhalt Hall, 2390 Anhalt Rd., Spring Branch, SG100002697

Arnold—Rauch—Brandt Homestead, TX 46 W, Parcel 393224, New Braunfels vicinity, SG100002698

Tarrant County

Shannon's Funeral Home, 2717 Ave. B, Fort Worth, SG100002699

Walker County

Josey Boy Scout Lodge and Keeper's Cabin, 2201 Ave. M, Huntsville, SG100002700

Wichita County

Freear, W.A., Furniture Company— Maskat Shrine Temple Building, 1100 Lamar St., Wichita Falls, SG100002701

UTAH

Salt Lake County

Hobbs, Edward and Irene, House (Murray City, Utah MPS), 487 E Vine St., Murray, MP100002702

Ross Hame, 4769 S Holladay Blvd., Holladay, SG100002703

Wayne County

Morrill, George and Ethalinda, House, 75 N Center St., Torrey, SG100002705

WASHINGTON

Thurston County

Capital Savings and Loan Association, 425 Franklin St., Olympia, SG100002706

An owner objection received for the following resource:

CALIFORNIA

Los Angeles County

Crosby Building, 9028 W Sunset Blvd., West Hollywood, SG100002673

A request for removal has been made for the following resource:

UTAH

Utah County

Davis—Ercanbrack Farmstead (Orem, Utah MPS), 2044 S. Main St., Orem, OT98001213

A request to move has been received for the following resource:

CALIFORNIA

San Mateo County

Lathrop House, 627 Hamilton St., Redwood City, MV73000448

Additional documentation has been received for the following resource:

COLORADO

Boulder County

Downtown Boulder Historic District, CO 19, Boulder, AD80000878

Authority: Section 60.13 of 36 CFR part 60.

Dated: June 14, 2018.
Julie H. Ernstein,
Acting Chief, National Register of Historic Places/National Historic Landmarks Program.

[FR Doc. 2018-14600 Filed 7-6-18; 8:45 am]

BILLING CODE 4312-52-P